SUSQUEHANNA RIVER BASIN COMMISSION

Notice of Actions Taken at December 4, 2008, Meeting

AGENCY: Susquehanna River Basin Commission.

ACTION: Notice of Commission actions.

SUMMARY: At its regular business meeting on December 4, 2008, in Bel Air, Maryland, the Commission held a public hearing as part of its regular business meeting. At the public hearing, the Commission: (1) Approved and tabled certain water resources projects; (2) denied a request for extension of an emergency certificate issued on October 30, 2008; and (3) adopted a revised fee schedule to take effect on January 1, 2009. Details concerning these and other matters addressed at the public hearing and business meeting are contained in the Supplementary Information section of this notice.

DATES: December 4, 2008.

ADDRESSES: Susquehanna River Basin Commission, 1721 N. Front Street, Harrisburg, PA 17102-2391.

FOR FURTHER INFORMATION CONTACT: Richard A. Cairo, General Counsel, telephone: (717) 238-0423, ext. 306; fax: (717) 238-2436; e-mail: rcairo@srbc.net; or Stephanie L. Richardson, Secretary to the Commission, telephone: (717) 238-0423, ext. 304; fax: (717) 238-2436; e-mail: srichardson@srbc.net. Regular mail inquiries may be sent to the above address.

SUPPLEMENTARY INFORMATION: In addition to the public hearing and its related action items identified below, the following items were also presented or acted on at the business meeting: (1) A special presentation titled “Water for Maryland's Future: What We Must Do Today” by Maryland Member Dr. Robert Summers; (2) a report on the present hydrologic conditions of the basin indicating below normal levels of precipitation and stream flow across the basin; (3) adoption of a revised Comprehensive Plan for management of the Susquehanna Basin's water resources; (4) adoption of a final rulemaking action regarding gas well development in the Marcellus and Utica shale formations; (5) adoption of a resolution emphasizing the importance of the basin's stream gaging network and urging federal funding for the Susquehanna Flood Forecast and Warning System in the amount of $2.4 million; (6) approval/ratification of several grants and contracts related to water resources management; (7) acceptance of the Fiscal Year 2008 Annual Independent Audit Report; (8) approval of an expenditure of $500,000 from the Commission's Water Management Fund for the completion of the Whitney Point Lake Section 1135 Project Modification; and (9) approval of an expenditure of $65,000 for the replacement of the Commission's three main computer servers. The Commission also heard counsel's report on legal matters affecting the Commission.

The Commission also convened a public hearing and took the following actions:

Public Hearing—Projects Approved

1. Project Sponsor and Facility: Chesapeake Appalachia, LLC (for operations in Chemung and Tioga Counties, N.Y., and Bradford, Sullivan, Susquehanna, Tioga, Wayne, and Wyoming Counties, Pa.). Consumptive water use of up to 7.500 mgd from various surface water sources and the following previously approved public water suppliers: Towanda Municipal Authority, Aqua Pennsylvania, Inc.—Susquehanna Division, Canton Borough Authority, and Borough of Troy.

2. Project Sponsor and Facility: Chief Oil & Gas LLC (for operations in Clearfield County, Pa.). Consumptive water use of up to 5.000 mgd from various surface water sources and the following public water suppliers: BCI Municipal Authority and Jersey Shore Joint Water Authority.

3. Project Sponsor and Facility: Chief Oil & Gas LLC (Clearfield Creek), Boggs Township, Clearfield County, Pa. Surface water withdrawal of up to 2.000 mgd.

4. Project Sponsor and Facility: Chief Oil & Gas LLC (Pine Creek), Cummings Township, Lycoming County, Pa. Surface water withdrawal of up to 0.099 mgd.

5. Project Sponsor and Facility: Citrus Energy (for operations in Wyoming County, Pa.). Consumptive water use of up to 5.000 mgd from various surface water sources.

6. Project Sponsor and Facility: Citrus Energy (North Branch Susquehanna River), Washington Township, Wyoming County, Pa. Surface water withdrawal of up to 0.499 mgd.

7. Project Sponsor and Facility: Dillsburg Area Authority, Franklin Township, York County, Pa. Groundwater withdrawal of 0.022 mgd from Well 1.

8. Project Sponsor and Facility: Dillsburg Area Authority, Franklin Township, York County, Pa. Groundwater withdrawal of 0.101 mgd from Well 3.

9. Project Sponsor and Facility: EXCO-North Coast Energy, Inc. (unnamed tributary to Sandy Run), Burnside Township, Centre County, Pa. Surface water withdrawal of up to 0.300 mgd.

10. Project Sponsor and Facility: Fortuna Energy Inc. (Towanda Creek), Franklin Township, Bradford County, Pa. Surface water withdrawal of up to 0.250 mgd.

11. Project Sponsor and Facility: J-W Operating Company (for operations in Cameron, Clearfield, and Elk Counties, Pa.). Consumptive water use of up to 4.500 mgd from various surface water sources and the following public water supplier: Emporium Water Company.

12. Project Sponsor: J-W Operating Company (Driftwood Branch—Sinnemahoning Creek), Lumber Township, Cameron County, Pa. Surface water withdrawal of up to 0.245 mgd.

13. Project Sponsor: KBK-HR Associates LLC. Project Facility: Honey Run Golf Club, Dover Township, York County, Pa. Consumptive water use of up to 0.382 mgd.

14. Project Sponsor: KBK-HR Associates LLC. Project Facility: Honey Run Golf Club, Dover Township, York County, Pa. Surface water withdrawal of up to 0.382 mgd from Honey Run.

15. Project Sponsor: KBK-HR Associates LLC. Project Facility: Honey Run Golf Club, Dover Township, York County, Pa. Surface water withdrawal of up to 1.440 mgd from Little Conewago Creek.

16. Project Sponsor and Facility: New Oxford Foods, LLC, New Oxford Borough, Adams County, Pa. Consumptive water use of up to 0.380 mgd and groundwater withdrawal of 0.035 mgd from Well 1.

17. Project Sponsor and Facility: Rex Energy Corporation (Upper Little Surveyor Run), Girard Township, Clearfield County, Pa. Surface water withdrawal of up to 0.400 mgd.

18. Project Sponsor and Facility: Rex Energy Corporation (Lower Little Surveyor Run), Girard Township, Clearfield County, Pa. Surface water withdrawal of up to 0.400 mgd.

19. Project Sponsor: Sunbury Generation LP. Project Facility: Sunbury Generation Facility, Monroe Township and Shamokin Dam Borough, Snyder County, Pa. Consumptive water use of up to 8.000 mgd and surface water withdrawal of up to 354.000 mgd.

20. Project Sponsor and Facility: Turm Oil, Inc. (for operations in Susquehanna County, Pa.). Consumptive water use of up to 5.000 mgd from various surface water sources and the following public water suppliers: Dushore Water Authority and Towanda Municipal Authority.

21. Project Sponsor and Facility: Turm Oil, Inc. (Deer Lick Creek), Rush Township, Susquehanna County, Pa. Surface water withdrawal of up to 0.216 mgd.

22. Project Sponsor and Facility: Turm Oil, Inc. (East Branch Wyalusing Creek), Rush Township, Susquehanna County, Pa. Surface water withdrawal of up to 0.216 mgd.

23. Project Sponsor and Facility: Turm Oil, Inc. (Elk Lake Stream), Rush Township, Susquehanna County, Pa. Surface water withdrawal of up to 0.216 mgd.

24. Project Sponsor and Facility: Turm Oil, Inc. (Main Branch Wyalusing Creek), Rush Township, Susquehanna County, Pa. Surface water withdrawal of up to 0.216 mgd.

25. Project Sponsor and Facility: Ultra Resources (for operations in Tioga and Potter Counties, Pa.). Consumptive water use of up to 4.990 mgd from a various surface water source.

26. Project Sponsor and Facility: Ultra Resources (Cowanesque River), Deerfield Township, Tioga County, Pa. Surface water withdrawal of up to 0.217 mgd.

Public Hearing—Projects Tabled

1. Project Sponsor and Facility: J-W Operating Company (Abandoned Mine Pool), Shippen Township, Cameron County, Pa. Application for surface water withdrawal of up to 0.090 mgd.

2. Project Sponsor and Facility: J-W Operating Company (Sterling Run), Lumber Township, Cameron County, Pa. Application for surface water withdrawal of up to 0.026 mgd.

3. Project Sponsor: PPL Holtwood, LLC. Project Facility: Holtwood Hydroelectric Station, Martic and Conestoga Townships, Lancaster County, and Chanceford and Lower Chanceford Townships, York County, Pa. Applications for amendment to existing FERC license (FERC Project No. 1881) and for redevelopment of the project with modification of its operations on the lower Susquehanna River, including the addition of a second power station and associated infrastructure.

4. Project Sponsor and Facility: Ultra Resources (Elk Run), Gaines Township, Tioga County, Pa. Application for surface water withdrawal of up to 0.020 mgd.

5. Project Sponsor and Facility: Ultra Resources (Pine Creek), Pike Township, Potter County, Pa. Application for surface water withdrawal of up to 0.430 mgd.

Public Hearing—Project Withdrawn

1. Project Sponsor and Facility: EXCO-North Coast Energy, Inc. (for operations in Centre County, Pa.). Application for consumptive water use of up to 5.000 mgd from various water sources.

Public Hearing—Extension of Emergency Certificate

The Commission denied a request for an extension of an Emergency Certificate previously issued to the following project:

CAN DO, Inc., Hazle Township, Luzerne County, Pa.—Use of Site 14 Test Well to serve Humbolt Industrial Park.

Public Hearing—Project Fee Schedule

The Commission adopted a revised fee schedule to take effect on January 1, 2009. As mandated by the Commission in 2005, the revised schedule incorporates 10 percent categorical fee increases and a Consumer Price Index Adjustment. It also contains new provisions for project fees applying to large scale hydroelectric facilities, “Approvals by Rule” issued to gas well development projects, and aquatic surveys performed by SRBC staff in connection with project approvals.

Authority: Pub. L. 91-575, 84 Stat. 1509 et seq., 18 CFR Parts 806, 807, and 808.

Dated: January 9, 2009.
Thomas W. Beauduy,
Deputy Director.

[FR Doc. E9-1637 Filed 1-26-09; 8:45 am]

BILLING CODE 7040-01-P